ENVIRONMENTAL PROTECTION AGENCY

40 CFR Part 300

[FRL-7896-9]

National Oil and Hazardous Substances Pollution Contingency Plan; National Priorities List

AGENCY: Environmental Protection Agency.

ACTION: Notice of intent for partial deletion of the surface soils of the South Tacoma Field (STF) Operable Unit of the Commencement Bay—South Tacoma Channel Superfund Site from the National Priorities List.

SUMMARY: The Environmental Protection Agency (EPA), Region 10, announces its intent to delete the Surface Soils of the South Tacoma Field (“STF”) from National Priorities List (NPL) and requests public comment on this proposed action. The NPL constitutes appendix B of 40 CFR part 300 which is the National Oil and Hazardous Substances Pollution Contingency Plan (NCP), which EPA promulgated pursuant to section 105 of the Comprehensive Environmental Response, Compensation and Liability Act (CERCLA) of 1980, as amended. EPA and the State of Washington (State) through Washington Department of Ecology (Ecology) have determined that appropriate remedial actions relating to the surface soils portion of the STF have been implemented. This partial deletion pertains only to the surface soils portion of the STF and does not include the other portions of the Site.

The purpose of the proposed deletion of the surface soils portion of the STF is to remove remediated property from the NPL, thereby making the land more readily available for beneficial reuse. EPA has compiled all relevant information and supporting documentation in the administrative record for this determination. The administrative record is available for review as noted below.

DATES: Comments concerning the proposed partial deletion of the STF from the NPL may be submitted on or before May 11, 2005.

ADDRESSES: Comments may be mailed to: Kris Flint, Remedial Project Manager, U.S. Environmental Protection Agency, Region 10, 1200 Sixth Avenue, ECL-111, Seattle, Washington 98101.

Other Contact Information: phone: 206/553-8155, fax: 206 553-0124, e-mail: flint.kris@epa.gov.

The Administrative Record for the proposed decision provides comprehensive information and is on file at the Region 10 Superfund Records Center and the information repository. Information on the site and a copy of the deletion docket is available for viewing at the Information Repositories which are located at: Tacoma Public Library, 1102 Tacoma Avenue South, Tacoma, Washington 98402, (253) 591-5622; and at: U.S. Environmental Protection Agency, Region 10, Superfund Records Center, 1200 Sixth Avenue, ECL-076, Seattle, Washington 98101, phone: (206) 553-4494.

Review must be arranged by appointment between the hours of 8:30 a.m. and 4:30 p.m., Monday through Friday.

FOR FURTHER INFORMATION CONTACT: Beverly Gaines, EPA Point of Contact, U.S. Environmental Protection Agency, Region 10, 1200 Sixth Avenue, ECL-110, Seattle, Washington 98101, phone: (206) 553-1066, fax: (206) 553-0124, e-mail: gaines.beverly@epa.gov .

SUPPLEMENTARY INFORMATION:

Table of Contents

I. Introduction

II. NPL Deletion Criteria

III. Deletion Procedures

IV. Basis of Intended Site Deletion

I. Introduction

The U.S. Environmental Protection Agency (EPA) Region 10 announces its intent to delete the surface soils of the South Tacoma Field Operable Unit of the Commencement Bay—South Tacoma Channel Superfund Site located in Tacoma, Pierce County, Washington, from the National Priorities List (NPL) and requests comment on this proposal. The groundwater portion of the site remains on the NPL for additional monitoring and possible remedial action. The NPL constitutes appendix B of 40 CFR part 300 which is the National Oil and Hazardous Substances Pollution Contingency Plan (NCP), which EPA promulgated pursuant to section 105 of the Comprehensive Environmental Response, Compensation and Liability Act (CERCLA) of 1980, as amended. This partial deletion of the STF is proposed in accordance with 40 CFR 300.425(e) and the Notice of Policy Change: Partial Deletion of Sites listed on the National Priorities List 60 FR 55466 (November 1, 1995). EPA will accept comments on the proposal to delete the STF for thirty (30) days after publication of this document in the Federal Register.

EPA and Ecology have determined that remedial action of the surface soils portion of STF has been successfully completed. A summary of cleanup activities conducted can be found in the Final Closeout Report for Soils which is available in the information repositories and on the Region 10 web-page.

Section II of this document explains the criteria for deleting sites from the NPL. Section III discusses the procedures EPA is using for this action. Section IV discusses the soils portion of the STF and explains how the site meets the deletion criteria.

II. NPL Deletion Criteria

The NCP establishes the criteria that EPA uses to delete sites from the NPL. In accordance with 40 CFR 300.425(e), sites may be deleted from the NPL where no further response is appropriate to protect human health or the environment. In making such a determination, EPA, in consultation with the State, considers whether the following criteria have been met: § 300.425(e)(1). Responsible parties or other persons have implemented all appropriate response actions required; § 300.425(e)(1)(i). All appropriate Fund-financed response under CERCLA has been implemented; § 300.425(e)(1)(ii). The remedial investigation has shown that the release poses no significant threat to public health or the environment and, therefore, taking of remedial measures is not appropriate; § 300.425(e)(1)(iii).

Deletion of a portion of a site from the NPL does not preclude eligibility for subsequent Fund-financed actions at the area deleted if future site conditions warrant such actions. Section 300.425(e)(3) of the NCP provides that Fund-financed actions may be taken at sites that have been deleted from the NPL.

A partial deletion of a site from the NPL does not affect or impede EPA's ability to conduct CERCLA response activities at areas not deleted and remaining on the NPL. In addition, deletion of a portion of a site from the NPL does not affect the liability of responsible parties or impede agency efforts to recover costs associated with response efforts.

Deletion of a portion of a site from the NPL does not itself create, alter, or revoke any person's rights or obligations. Partial deletion of STF soils from the NPL will not affect the status of STF soils on any Washington Department of Ecology (Ecology) lists and does not preclude Ecology from conducting future investigations or requiring response actions under State law on any portion of the site.

III. Deletion Procedures

The following procedures were used for the intended partial deletion of this Site:

(1) The responsible parties for the STF implemented all of the required response actions for contaminated soils including excavation, removal, stabilization, consolidation, capping, confirmational sampling, placement of institutional controls, and post-remedial maintenance and monitoring. STF soils are mapped according to a grid system designed to clearly show interested parties where certain institutional controls apply (e.g., for land restricted to industrial use, written development plan must be reviewed by EPA).

(2) The State of Washington through Ecology concurred with the proposed deletion decision in a letter dated March 3, 2005.

(3) Concurrent with this national notice of intention to delete, a public notice will also appear in a local newspaper. Additionally, notice has been distributed to appropriate federal, state, and local officials and other interested parities to announce commencement of a 30-day public comment period on EPA's Notice of Intent to Delete.

(4) All relevant documents have been compiled in the site deletion docket and are available in the site file, as noted above.

Deletion of the STF from the NPL does not in itself, create, alter or revoke any individual's rights or obligations. Deletion of the site from the NPL does not preclude eligibility for future response actions, NCP § 300.425(e)(3).

For deletion of this STF, EPA's Regional Office will accept and evaluate public comments on EPA's Notice of Intent to Delete before making a final decision to delete. If necessary, the Agency will prepare a Responsiveness Summary to address any significant public comments received.

A partial deletion occurs when the Regional Administrator places a final notice in the Federal Register. Generally, the NPL will reflect deletions in the final update following the notice. Public notices and copies of the Responsiveness Summary will be made available to local residents at the Regional Office.

IV. Basis for Intended Site Deletion

The following summary provides the Agency's rationale for the proposal to delete surface soils at the STF from the NPL.

Site Background and History

In 1981 the Commencement Bay Site was listed on the National Priorities List. In a Record of Decision (ROD), dated September 8, 1983, the Agency divided the Commencement Bay Site into smaller, individual sites, one of which became the South Tacoma Channel Superfund Site. The South Tacoma Channel Site consists of three operable units; South Tacoma Field, Well 12A, and Tacoma Municipal Landfill. The STF operable unit is located in Tacoma, Pierce County, Washington. Within the city of Tacoma, the STF is located approximately between South 36th Street to the north and South 56th Street to the south, and between Tyler Way on the west and Adams Street on the east.

The STF is approximately 260 acres that have been used for a variety of industrial and commercial purposes for more than 100 years. The area is lower than surrounding upland areas by as much as 150 feet on the west. Currently, the STF is mostly a grassed, open field with a few industrial and commercial facilities. The site includes a former swamp and lake bed that has been filled and covered over time. There is a small wetland in this area, along with an open stormwater channel along the west and north sides of the site. The site is currently zoned for commercial/industrial use with the exception of an 18-acre strip along the western border which is zoned for residential-commercial transitional use. The western side of STF, near the old airport, is also used for casual recreation.

A variety of industrial and commercial operations have occupied different portions of the STF in the past 100 years. The South Tacoma Car Shops area operated as a railroad equipment manufacturing, repair and maintenance facility from 1892 to 1974. Rail cars were also cleaned and dismantled. Foundry facilities operated on-site from 1890 through 1980. An iron foundry produced iron wheels until 1957. A brass foundry produced journal bearings composed primarily of lead, tin, copper, zinc and antimony until 1980. Aircraft maintenance and refueling operations were performed at the South Tacoma Airport from 1936 to 1973. A lake was located beyond the south end of the former runway and, in the late 1940's, was used by seaplanes. In addition, foundry, construction, and domestic wastes reportedly were disposed of as fill material in the Former Swamp/Lakebed area. In the 1930's and 1940's portions of the STF reportedly were used as unauthorized dumping areas for household and commercial wastes. More recent occupation of the STF includes Tacoma Public Utilities at the northern end and Pioneer Builders Supply on the southeast corner.

During remedial investigation (RI) contamination was identified in the former railroad maintenance area, at the Tacoma Public Utilities area, and at the Pioneer Builders Supply. Pioneer used two underground storage tanks (USTs) for about five years to store gasoline and diesel fuel. During tank excavation in 1991, petroleum contamination was discovered in surrounding soils. Also, in 1990 three other tanks were uncovered and removed.

Selected Remedy

The Record of Decision for the STF was signed September 29, 1994, and the remedies selected for each portion of the site addressed human health risks from exposure to contamination via soil ingestion or contact. The protectiveness of selected active remedies for soils (e.g., elimination and reduction of risk through excavation, removal, and or capping) is supplemented with institutional controls limiting future land use to commercial/industrial. No ROD amendments have been warranted for soil remediation.

EPA's ROD summarizes a human health risk assessment (HHRA) conducted for this site during the RI/FS. The HHRA evaluated risks due to contamination in the soil as well as in groundwater, surface water and stormwater ditch. The routes of soil exposure considered in the HHRA included ingestion and skin contact for scenarios of industrial, residential and recreational use. The HHRA concluded that cleanup of the STF was necessary to prevent imminent and substantial endangerment to public health from actual or threatened releases of hazardous substances.

EPA's ROD listed the following primary cleanup objectives for soils. (1) Excavate soil “hot spots”, treat them on-site using solidification, consolidate and cap them. (2) Cap soils where contaminant concentrations exceeded the State's Model Toxics Control Act (MTCA) criteria for industrial use. (3) Limit site use, and thus human exposure, strictly to industrial where contaminant concentrations fall between the MTCA criteria for industrial and residential uses. (4) Where the STF was zoned for residential/commercial use and contaminant concentrations exceeded the MTCA criteria for residential use, soils were to be cleaned up as prescribed in MTCA. The following table summarizes the numeric cleanup criteria and the required remedial action.

Remedial action level | Arsenic (mg/kg) | Lead (mg/kg) | Total carcinogenic PAHs (mg/kg) | Total PCBs ¹ PAHs (mg/kg) | Copper (mg/kg) | Remedial action for soil (mg/kg)
Hotspot (concentrations at & higher than these levels) | 570 | 18,000 | 50 | 50 | 45,000 | Excavate, stabilize, consolidate on-site and cap.
IN BETWEEN . . . Capping & Hotspot | Excavate, consolidate, and cap on-site. Institutional controls implemented to limiting land use, safe development, and public education. With capping materials in place, soils meet State criteria for industrial use.
Capping (at these concentrations) | 200 | 1,000 | 20 | 10 |  | Cap in place.
IN BETWEEN . . . MTCA & Capping | Soils meet State criteria for industrial use, institutional controls needed for limiting land use, ensuring safe development, and educating public about the STF.
MTCA Residential ¹ | ² 20 | ³ 250 | ³ 1 | ³ 1 | 2,960
¹ At Tacoma City Light Dry Wells (north end of STF), soil concentrations exceeding 50 mg/kg total PCBs and at/or exceeding 0.13 mg/kg endrin were excavated for incineration off site.
² Source: Table 9-3 of EPA 1994 ROD. Table 9-3 also shows MTCA residential use levels for the following: aluminum (80,000 mg/kg); antimony (32 mg/kg); beryllium (0.23 mg/kg); manganese (11,200 mg/kg); zinc (24,000 mg/kg); aldrin (0.059 mg/kg); 3-3-dichlorobenzidine (2.2 mg/kg); and pentachlorophenol (8.3 mg/kg).
³ Source: Table 9-3 of EPA 1994 ROD. These are MTCA Method A.

A groundwater study confirmed that inorganic metals leaching from contaminated soils did not pose a threat to groundwater. Total lead was chosen as the indicator chemical in this study due the high volume and concentrations of lead-contaminated soil at the STF. Consequently, lead concentrations in groundwater continues to be monitored by the Potentially Responsible Parties (PRPs) at locations across the site, particularly where contaminated soils are consolidated. No increase has been found, but monitoring will continue after the partial deletion.

Remedy Implementation for Soils

On January 14, 1997, a Consent Decree (CD) was filed and bound the settling defendants to perform the remedies selected in the ROD and to select a supervising contractor. The CD requirements include further sampling for remedial design, actual cleanup and confirmational sampling, implementing institutional controls, and a long-term maintenance and monitoring program.

Tacoma City Light was the party responsible for PCB-contaminated dry wells at the north end of the STF. Tacoma City Light initiated this cleanup in August 1997, and completed cleanup in January 1998, prior to the beginning of remedial action on the remainder of the site in June 1998. Tacoma City Light's primary cleanup objective for the dry wells was to remove all contaminated soils exceeding MTCA concentrations for residential use which was a more aggressive cleanup than selected for the rest of the site in the ROD. City Light excavated soils with PCB concentrations above 1 mg/kg and endrin concentrations above 0.13 mg/kg and transported them off-site for incineration.

The remaining remedial action (RA) activities at the STF began in June 1998. The following work was conducted in accordance with the ROD and the CERCLA CD.

(1) Approximately 6,300 tons of soil exceeding hot-spot concentrations were excavated and treated (i.e., stabilized with a phosphate-based reagent). These soils were consolidated on-site and covered with a clean soil cap at the north end of the STF.

(2) At Pioneer Builders Supply 15.4 tons of soil with PCBs exceeding 50 mg/kg were excavated and disposed of off-site.

(3) 113,607 tons of soil with contaminant concentrations between the capping and hot-spot concentrations were consolidated and capped.

(4) An estimated 13.7 acres of the STF was capped (approximately 5% of 260 total acres).

(5) Buried tanks, drums and contents were removed and disposed. Associated contaminated soils and solid wastes were also removed and disposed at a permitted facility.

(6) Sub-surface soils contaminated over capping-level concentrations were capped where excavation and consolidation were not cost-effective and became subject to institutional control.

(7) Institutional controls prohibiting residential development and limiting exposure were installed (e.g., drinking water restrictions, vegetation planting/maintenance on caps, fencing, grid markers for surveying integrity of capped areas over time, future development limitations to protect and/or supplement capped areas). These are implemented through the CD and restrictive covenants.

(8) During construction, air was monitored to assess airborne contaminant concentrations in the work area and at site boundaries.

Operation and Maintenance

The 1997 CD requires the Settling Defendants to perform inspections and necessary actions for long-term operation and maintenance (O&M) of the remedy. The first annual O&M report, received in 2000, identified a number of issues for further monitoring and/or resolution, such as minor settling on one cap and subsequent stormwater ponding. Since the first year, maintenance has consisted of re-locating grid markers, replacing lost marker tags, monitoring public access areas for erosion, maintaining fences/gates, and monitoring/replacing vegetation to prevent wind/water erosion. Semi-annual monitoring has been effective in preserving the integrity of capped areas and consolidated/capped areas of the STF.

Settling defendants are responsible under the CD for continuing both O&M and institutional control work after soils are partially deleted; although, the CD allows EPA to reduce O&M requirements if future developments warrant. For example, when fill is added to a capped area to provide a level foundation for building slabs, EPA may determine it is no longer necessary to monitor vegetation and erosion for that location.

Five-Year Reviews

The first Five-Year Review Report for this STF was completed in June 2003. It determined the implemented remedies continue to protect human health and the environment and that additional protective measures are not needed. Three key findings relevant to the soil remedies at STF are summarized below.

(1) The selected remedy for contaminated soils (clean capping) is working and meets the goals specified in the ROD. Institutional controls are in place and effective as evidenced by frequent inquiries from developers interested in various portions of the site. Consolidation of “hot-spot” contamination with thick cap coverage is protective and will remain so as long as commitments to the integrity of caps and fences are kept. General groundwater monitoring associated with soil contamination or consolidation shows no change has occurred and inorganic metals, based on the indicator of total lead, is not posing a threat to groundwater.

(2) The assumptions, data, cleanup levels and cleanup objectives used at the time of the remedies are still valid. Although Ecology modified MTCA substantially in 2001, the modifications to the industrial standards do not affect the protectiveness of the soil remedies prescribed in the 1994 ROD.

(3) Between issuance of the ROD in 1994 and the First Five-Year Review in 2003, no other information has come to light that could call into question the protectiveness of the remedy for human health and the environment. The remedies at STF for soil and general groundwater protection are protective of human health and the environment in both short and long term.

The First Five Year Review Report for STF found that remedial action objectives for soil cleanup had been met and that the soil remedies were protective of human health. The second Five-Year Review Report for STF is scheduled for 2008 when Region 10 will once again address these questions.

Institutional Controls

After remedial actions were completed in 1999, EPA approved the Site Development and Institutional Controls Plan (SDICP) which was developed in accordance with the CD. The SDICP requires parties interested in developing portions of the STF to contact EPA for concurrence with those plans. Since 1999, EPA has entertained several inquiries related to different types of development on portions of the site. As standard procedure, EPA's role in these interactions is to: (a) Answer questions via phone or e-mail; (b) encourage interested parties to obtain and read a copy of the SDICP; (c) provide oral history of the site, explaining the Superfund process in general and the SDICP in particular; (d) assist parties reviewing the EPA site file (appointments, questions/answers); and (e) address written development proposals as provided by interested parties.

In general, institutional controls at this site fall into two categories: proprietary controls, such as restrictive covenants for access and drinking water use; and enforcement controls, such as CD requirements for receiving EPA approval on development plans at certain areas of the site. In addition, while not required by the ROD, governmental controls, such as zoning requirements limit the type of land use.

Since RA has been completed for the soils, the focus of STF Site management is assuring potential developers understand the SDICP and how institutional controls may affect their plans. Section 3 of the SDICP highlights and clearly explains how the limitations and requirements associated with developing any portion of the STF will work, in terms of dealing with any remaining soil contamination, transferring property, allowing access, etc. Some redevelopment has already occurred and new development inquiries continue, indicating that institutional controls are working and will allow redevelopment in a manner that protects both the soil remedies and human health.

Community Involvement

Since the remedy was completed in 1999, the public has not demonstrated particular interest in the STF except for questions related to commercial/industrial development (see below). For issuance of the First Five-Year Review Report, EPA published a notice for conducting the review in the Tacoma News Tribune (February 24, 2003) and sent approximately 215 notices to addressees on the public mailing list for this site. Only one citizen responded by calling to learn more about the soil remedy based on concerns about eating wild blackberries from, and walking dogs on, unoccupied portions of the STF. Staff from the Tacoma-Pierce County Health Department (TPCHD) and Ecology also contacted Region 10 with technical input for the review. A second notice to the community was mailed at the end of the Five-Year Review process with notification that the remedies are still protective.

This Notice of Intent to Partially Delete the soils portion of the STF and a complete copy of the Final Closeout Report/Soils will be posted to the Region 10 EPA web-page where the First Five-Year Review Report is also available. Concurrent with this Federal Register Notice of Intention to Delete, public notice is also being published in the Tacoma News Tribune. Individual notices and a brief fact sheet will be sent to the mailing list for the site.

State Concurrence

One of the three criteria for site deletion specifies that EPA may delete a site from the NPL if “responsible parties have implemented all appropriate response actions required.” In concurrence with the State of Washington, provided to EPA on March 3, 2005, EPA believes that this criterion for deletion of soils at the STF Site has been met. EPA is proposing partial deletion of this site from the NPL. Documents supporting this action are available from the docket in the file.

Dated: March 30, 2005.
Ronald A. Kreizenbeck,
Acting Regional Administrator, Region 10.

[FR Doc. 05-7230 Filed 4-8-05; 8:45 am]

BILLING CODE 6560-50-P